DEPARTMENT OF TRANSPORTATION

Federal Aviation Administration

14 CFR Part 39

[Docket No. FAA-2014-0566; Directorate Identifier 2014-NM-041-AD; Amendment 39-18050; AD 2014-25-08]

RIN 2120-AA64

Airworthiness Directives; Dassault Aviation Airplanes

AGENCY: Federal Aviation Administration (FAA), Department of Transportation (DOT).

ACTION: Final rule.

SUMMARY: We are adopting a new airworthiness directive (AD) for certain Dassault Aviation Model FALCON 2000 and FALCON 2000EX airplanes. This AD was prompted by a design review, which revealed that the forward servicing compartment (FSC) is configured with tie-down points. This AD requires inspecting the FSC for installed tie-down points, and removing those tie-down points. We are issuing this AD to detect and correct installed tie-down points, which could lead to inadvertent use of the FSC as a cargo compartment, which could result in damage to the structure of the airplane or potential risk of fire.

DATES: This AD becomes effective January 20, 2015.

The Director of the Federal Register approved the incorporation by reference of certain publications listed in this AD as of January 20, 2015.

ADDRESSES: You may examine the AD docket on the Internet at http://www.regulations.gov/#!docketDetail;D=FAA-2014-0566; or in person at the Docket Management Facility, U.S. Department of Transportation, Docket Operations, M-30, West Building Ground Floor, Room W12-140, 1200 New Jersey Avenue SE., Washington, DC.

For service information identified in this AD, contact Dassault Falcon Jet, P.O. Box 2000, South Hackensack, NJ 07606; telephone 201-440-6700; Internet http://www.dassaultfalcon.com. You may view this referenced service information at the FAA, Transport Airplane Directorate, 1601 Lind Avenue SW., Renton, WA. For information on the availability of this material at the FAA, call 425-227-1221.

FOR FURTHER INFORMATION CONTACT: Tom Rodriguez, Aerospace Engineer, International Branch, ANM-116, Transport Airplane Directorate, FAA, 1601 Lind Avenue SW., Renton, WA 98057-3356; telephone 425-227-1137; fax 425- 227-1149.

SUPPLEMENTARY INFORMATION:

Discussion

We issued a notice of proposed rulemaking (NPRM) to amend 14 CFR part 39 by adding an AD that would apply to certain Dassault Aviation Model FALCON 2000 and FALCON 2000EX airplanes. The NPRM published in the Federal Register on August 14, 2014 (79 FR 47592).

The European Aviation Safety Agency (EASA), which is the Technical Agent for the Member States of the European Community, has issued EASA Airworthiness Directive 2014-0027R1, dated February 5, 2014 (referred to after this as the Mandatory Continuing Airworthiness Information, or “the MCAI”), to correct an unsafe condition for certain Dassault Aviation Model FALCON 2000 and FALCON 2000EX airplanes. The MCAI states:

The Forward Servicing Compartment (FSC) of the Falcon 2000 is an unpressurized service compartment located between fuselage frames 26 and 33. This compartment is accessible from a lockable external door located in the lower aft fuselage.

A design review has brought to light that the compartment is configured with tie-down points, which were used by operators to fix loads (e.g. ski or golf bags) in that compartment. However, the FSC has not been designed and consequently demonstrated as being compliant with cargo compartment airworthiness requirements.

This condition, if not corrected, could lead to inadvertent use of the FSC as [a] cargo compartment, which could result in damage to the structure of the aeroplane or potential risk of fire.

To address this potential unsafe condition, Dassault Aviation issued Service Bulletin (SB) F2000-407 and SB F2000EX-289, as applicable, which provide instructions for removal of the tie-down points.

For the reasons described above, this [EASA] AD requires removal of the tie-down points from the FSC.

Note: Operators are also reminded about the intended function of the FSC.

This [EASA] AD is revised to clarify the AD Applicability and to correct the [type certificate data sheet] TCDS Number.

Required actions include inspecting for installed tie-down points. You may examine the MCAI in the AD docket on the Internet at http://www.regulations.gov/#!documentDetail;D=FAA-2014-0566-0002.

Comments

We gave the public the opportunity to participate in developing this AD. We received no comments on the NPRM (79 FR 47592, August 14, 2014) or on the determination of the cost to the public.

Conclusion

We reviewed the relevant data and determined that air safety and the public interest require adopting this AD as proposed except for minor editorial changes. We have determined that these minor changes:

• Are consistent with the intent that was proposed in the NPRM (79 FR 47592, August 14, 2014) for correcting the unsafe condition; and

• Do not add any additional burden upon the public than was already proposed in the NPRM (79 FR 47592, August 14, 2014).

Costs of Compliance

We estimate that this AD affects 247 airplanes of U.S. registry.

We also estimate that it will take about 2 work-hours per product to comply with the basic requirements of this AD. The average labor rate is $85 per work-hour. Required parts will cost about $5 per product. Based on these figures, we estimate the cost of this AD on U.S. operators to be $43,225, or $175 per product.

According to the manufacturer, some of the costs of this AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

Examining the AD Docket

You may examine the AD docket on the Internet at http://www.regulations.gov/#!docketDetail;D=FAA-2014-0566; or in person at the Docket Management Facility between 9 a.m. and 5 p.m., Monday through Friday, except Federal holidays. The AD docket contains this AD, the regulatory evaluation, any comments received, and other information. The street address for the Docket Operations office (telephone 800-647-5527) is in the ADDRESSES section.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2014-25-08 Dassault Aviation: Amendment 39-18050. Docket No. FAA-2014-0566; Directorate Identifier 2014-NM-041-AD.

(a) Effective Date

This AD becomes effective January 20, 2015.

(b) Affected ADs

None.

(c) Applicability

This AD applies to the Dassault Aviation airplanes identified in paragraphs (c)(1) and (c)(2) of this AD, certificated in any category.

(1) Dassault Aviation Model FALCON 2000 airplanes, having serial numbers (S/Ns) 1 through 231 inclusive.

(2) Dassault Aviation Model FALCON 2000EX airplanes, having S/Ns 1 through 262 inclusive, and S/Ns 601 through 604 inclusive.

(d) Subject

Air Transport Association (ATA) of America Code 25, Equipment/Furnishings.

(e) Reason

This AD was prompted by a design review, which revealed that the forward servicing compartment (FSC) is configured with tie-down points. We are issuing this AD to detect and correct installed tie-down points, which could lead to inadvertent use of the FSC as a cargo compartment, which could result in damage to the structure of the airplane or potential risk of fire.

(f) Compliance

Comply with this AD within the compliance times specified, unless already done.

(g) Inspection and Removal

(1) Within 440 flight hours or 9 months after the effective date of this AD, whichever occurs first, inspect the FSC for installed tie-down points, in accordance with the Accomplishment Instructions of Dassault Service Bulletin F2000-407, Revision 1, dated January 29, 2014; or Dassault Service Bulletin F2000EX-289, Revision 1, dated January 29, 2014; as applicable.

(2) If it is determined from the inspection required by paragraph (g)(1) of this AD that tie-down points are installed, within the compliance time specified in paragraph (g)(1) of this AD, remove the tie-down points from the FSC, in accordance with the Accomplishment Instructions of Dassault Service Bulletin F2000-407, Revision 1, dated January 29, 2014; or Dassault Service Bulletin F2000EX-289, Revision 1, dated January 29, 2014; as applicable.

(h) Credit for Previous Actions

This paragraph provides credit for actions required by paragraphs (g)(1) and (g)(2) of this AD, if those actions were performed before the effective date of this AD using Dassault Service Bulletin F2000-407, dated December 17, 2013; or Dassault Service Bulletin F2000EX-289, dated December 17, 2013; which are not incorporated by reference in this AD.

(i) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Tom Rodriguez, Aerospace Engineer, International Branch, ANM-116, Transport Airplane Directorate, FAA, 1601 Lind Avenue SW., Renton, WA 98057-3356; telephone 425-227-1137; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: For any requirement in this AD to obtain corrective actions from a manufacturer, the action must be accomplished using a method approved by the Manager, International Branch, ANM-116, Transport Airplane Directorate, FAA; or the European Aviation Safety Agency (EASA); or Dassault Aviation's EASA Design Organization Approval (DOA). If approved by the DOA, the approval must include the DOA-authorized signature.

(j) Related Information

(1) Refer to Mandatory Continuing Airworthiness Information (MCAI) EASA Airworthiness Directive 2014-0027R1, dated February 5, 2014, for related information. This MCAI may be found in the AD docket on the Internet at http://www.regulations.gov/#!documentDetail;D=FAA-2014-0566-0002.

(2) Service information identified in this AD that is not incorporated by reference is available at the addresses specified in paragraphs (k)(3) and (k)(4) of this AD.

(k) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Dassault Service Bulletin F2000-407, Revision 1, dated January 29, 2014.

(ii) Dassault Service Bulletin F2000EX-289, Revision 1, dated January 29, 2014.

(3) For service information identified in this AD, contact Dassault Falcon Jet, P.O. Box 2000, South Hackensack, NJ 07606; telephone 201-440-6700; Internet http://www.dassaultfalcon.com.

(4) You may view this service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on December 5, 2014.
Michael Kaszycki,
Acting Manager, Transport Airplane Directorate, Aircraft Certification Service.

[FR Doc. 2014-29225 Filed 12-15-14; 8:45 am]

BILLING CODE 4910-13-P